DEPARTMENT OF THE TREASURY

Open Meeting of the Federal Advisory Committee on Insurance

AGENCY: Departmental Offices, Treasury.

ACTION: Notice of Open Meeting.

SUMMARY: The Department of the Treasury's Federal Advisory Committee on Insurance (FACI) will convene an open meeting on Monday, August 6, 2012 at the Department of the Treasury, Cash Room, 1500 Pennsylvania Avenue NW., Washington, DC, beginning at 1:30 p.m. Eastern Time. The meeting is open to the public and the site is accessible to individuals with disabilities.

In this meeting, the FACI members will follow up on the conclusions of the FACI meeting that occurred on March 30, 2012, and will provide direction on the expected work product of the Committee and each subcommittee, if any.

DATES: The meeting will be held on August 6, 2012, commencing at 1:30 p.m. Eastern Time.

Submission of Written Statements: The public is invited to submit written statements to the FACI. Written statements can be submitted by any of the following methods:

Electronic Statements

Email: FACI@treasury.gov, or

Paper Statements

Paper statements should be sent in triplicate to the Federal Advisory Committee on Insurance, Department of the Treasury, Room 2100, 1425 New York Avenue NW., Washington, DC 20220.

The Department of the Treasury will publish all statements in their original form on the Federal Insurance Office Web site, http://www.treasury.gov/about/organizational-structure/offices/Pages/Federal-Insurance.aspx, including any business or personal information provided such as names, addresses, email addresses, or telephone numbers. The Department of the Treasury will also make such statements available for public inspection and copying in the Department's Library, Room 1428, 1500 Pennsylvania Avenue NW., Washington, DC 20220, on official business days between the hours of 10:00 a.m. and 5:00 p.m. Eastern Time. You can make an appointment to inspect statements by calling (202) 622-0990. All statements received, including attachments and other supporting materials, are part of the public record and subject to public disclosure. You should submit only information that you wish to make publicly available.

FOR FURTHER INFORMATION CONTACT: James P. Brown, Designated Federal Officer, Federal Advisory Committee on Insurance, Department of the Treasury, Room 2100, New York Avenue NW., Washington, DC 20220, at (202) 622-6910 (this is not a toll-free number). Persons who have difficulty hearing or speaking may access this number via TTY by calling the toll-free Federal Relay Service at (800) 877-8339.

SUPPLEMENTARY INFORMATION: In accordance with the Federal Advisory Committee Act, 5 U.S.C. App. II, 10(a)(2), through implementing regulations at 41 CFR 102-3.150, James P. Brown, Designated Federal Officer of FACI, has ordered publication of this notice that the FACI will convene its quarterly meeting on Monday, August 6, 2012. The meeting will be held at the Department of the Treasury, Cash Room, 1500 Pennsylvania Avenue NW., Washington, DC 20220 at 1:30 p.m. Eastern Time.

The meeting will be held in a secured facility and members of the public who plan to attend the meeting must contact James P. Brown, the Designated Federal Officer, at (202) 622-6910 to provide the following information which is required to facilitate entry into the building: full name, organization represented (if any), date of birth, Social Security number, and country of citizenship. This information must be received by 5:00 p.m. Eastern Time on Monday, July 30, 2012. On the date of the meeting, attendees must present a government-issued photo ID, such as a driver's license or passport for entry into the building.

In this meeting, the FACI members will follow up on the conclusions of the FACI meeting that occurred on March 30, 2012, and will provide direction on the expected work product of the Committee and each subcommittee, if any. Due to the logistical difficulties of convening the members of the committee, the meeting is being announced with less than 15 days notice (see 41 CFR 102-3.150(b)).

Michael T. McRaith,
Director, Federal Insurance Office, Department of the Treasury.

[FR Doc. 2012-18460 Filed 7-27-12; 8:45 am]

BILLING CODE 4810-25-P